DEPARTMENT OF ENERGY

Federal Energy Regulatory Commission

Combined Notice of Filings #2

Take notice that the Commission received the following electric rate filings:

Docket Numbers: ER17-1742-007; ER21-2406-004; ER20-2510-005; ER13-2490-011; ER22-734-003; ER19-2671-006; ER19-2672-006; ER20-2512-005; ER22-2424-001; ER22-2427-001; ER22-2425-001; ER22-2421-001; ER22-2423-001; ER20-2515-005; ER21-2407-004; ER22-2028-002; ER19-2595-006; ER21-2408-004; ER22-2426-001; ER22-2428-001; ER19-2670-006; ER19-53-003; ER21-2638-004; ER20-2455-002; ER20-2595-002; ER20-2663-005; ER21-2409-004; ER17-311-007; ER20-1073-005; ER22-2422-001.

Applicants: SR Turkey Creek, LLC, SR Terrell, LLC, SR South Loving LLC, SR Snipesville II, LLC, SR Snipesville, LLC, SR Rattlesnake, LLC, SR Platte, LLC, SR Perry, LLC, SR Millington, LLC, SR Meridian III, LLC, SR McKellar Lessee, LLC, SR McKellar, LLC, SR Lumpkin, LLC, SR Hazlehurst III, LLC, SR Hazlehurst, LLC, SR Georgia Portfolio II Lessee, LLC, SR Georgia Portfolio I MT, LLC, SR DeSoto I Lessee, LLC, SR DeSoto I, LLC, SR Clay, LLC, SR Cedar Springs, LLC, SR Bell Buckle, LLC, SR Baxley, LLC, SR Arlington II MT, LLC, SR Arlington II, LLC, SR Arlington, LLC, Simon Solar, LLC, Odom Solar LLC, Lancaster Solar LLC, Hattiesburg Farm, LLC.

Description: Notice of Non-Material Change in Status of Hattiesburg Farm, LLC, et al.

Filed Date: 1/30/23.

Accession Number: 20230130-5304.

Comment Date: 5 p.m. ET 2/21/23.

Docket Numbers: ER20-1790-002; ER11-4498-014; ER11-4499-014; ER11-4501-016; ER12-979-015; ER12-2448-015; ER13-2409-010; ER14-2858-009; ER15-2615-005; ER15-2620-005; ER16-2293-006; ER16-2577-005; ER16-2687-004; ER17-790-003; ER17-2457-005; ER17-2470-005; ER18-27-004; ER18-2312-004; ER18-2330-003; ER20-2134-002; ER21-2597-002.

Applicants: Rockhaven Wind Project, LLC, Cimarron Bend Wind Project III, LLC, Enel Green Power Rattlesnake Creek Wind Project, LLC, Enel Green Power Diamond Vista Wind Project, LLC, Thunder Ranch Wind Project, LLC, Red Dirt Wind Project, LLC, Rock Creek Wind Project, LLC, Cimarron Bend Wind Project II, LLC, Chisholm View Wind Project II, LLC, Cimarron Bend Wind Project I, LLC, Lindahl Wind Project, LLC, Drift Sand Wind Project, LLC, Little Elk Wind Project, LLC, Goodwell Wind Project, LLC, Origin Wind Energy, LLC, Buffalo Dunes Wind Project, LLC, Chisholm View Wind Project, LLC, Rocky Ridge Wind Project, LLC, Caney River Wind Project, LLC, Smoky Hills Wind Project II, LLC, Smoky Hills Wind Farm, LLC, Aurora Wind Project, LLC.

Description: Notice of Change in Status of Aurora Wind Project, LLC, et al.

Filed Date: 1/31/23.

Accession Number: 20230131-5510.

Comment Date: 5 p.m. ET 2/21/23.

Docket Numbers: ER22-1627-002; ER10-1427-005; ER10-2466-023; ER10-2895-025; ER10-2921-025; ER10-2966-025; ER10-3167-018; ER11-2201-028; ER11-4029-022; ER12-645-027; ER12-1311-022; ER12-2068-022; ER13-203-017; ER13-1139-024; ER13-1346-014; ER13-1613-018; ER13-2143-018; ER14-25-021; ER14-1964-016; ER14-2630-017; ER17-482-010; ER19-529-011; ER19-1074-011; ER19-1075-011; ER20-1447-006; ER20-1806-005; ER22-192-005; ER22-1010-003.

Applicants: TerraForm IWG Acquisition Holdings II, LLC, Evolugen Trading and Marketing LP, Catalyst Old River Hydroelectric Limited Partnership, Brookfield Energy Marketing US LLC, Brookfield Renewable Energy Marketing US LLC, Brookfield Energy Marketing Inc., Brookfield Renewable Trading and Marketing LP, BREG Aggregator LLC, Regulus Solar, LLC, BIF II Safe Harbor Holdings, LLC, Prairie Breeze Wind Energy LLC, Black Bear Development Holdings, LLC, Brookfield White Pine Hydro LLC, Mesa Wind Power LLC, Imperial Valley Solar 1, LLC, Black Bear SO, LLC, Blue Sky East, LLC, Stetson Holdings, LLC, California Ridge Wind Energy LLC, Vermont Wind, LLC, Evergreen Wind Power III, LLC, Black Bear Hydro Partners, LLC, Rumford Falls Hydro LLC, Great Lakes Hydro America, LLC, Bear Swamp Power Company LLC, Stetson Wind II, LLC, Brookfield Energy Marketing LP, AM Wind Repower LLC.

Description: Notice of Non-Material Change in Status of AM Wind Repower LLC, et al.

Filed Date: 1/31/23.

Accession Number: 20230131-5509.

Comment Date: 5 p.m. ET 2/21/23.

Docket Numbers: ER22-2161-001.

Applicants: Golden Spread Electric Cooperative, Inc.

Description: Compliance filing: 881 Compliance Filing—Effective Date clarification to be effective 7/12/2025.

Filed Date: 2/3/23.

Accession Number: 20230203-5014.

Comment Date: 5 p.m. ET 2/24/23.

Docket Numbers: ER22-2162-001.

Applicants: Deseret Generation & Transmission Co-operative, Inc.

Description: Compliance filing: Effective Date Clarification 881 Compliance Filing to be effective 7/12/2025.

Filed Date: 2/3/23.

Accession Number: 20230203-5028.

Comment Date: 5 p.m. ET 2/24/23.

Docket Numbers: ER23-643-001.

Applicants: PJM Interconnection, L.L.C.

Description: Tariff Amendment: Request to Defer Action-Amendment to ISA, SA No. 5596; Queue No. AD1-020 to be effective 12/31/9998.

Filed Date: 2/2/23.

Accession Number: 20230202-5111.

Comment Date: 5 p.m. ET 2/23/23.

Docket Numbers: ER23-1033-000.

Applicants: New England Power Company.

Description: Tariff Amendment: 2023-02-01 Notice of Cancellation of LGIA with Deepwater Block Island Wind to be effective 1/1/2023.

Filed Date: 2/1/23.

Accession Number: 20230201-5191.

Comment Date: 5 p.m. ET 2/22/23.

Docket Numbers: ER23-1041-000.

Applicants: Florida Power & Light Company.

Description: § 205(d) Rate Filing: FPL Amendment to NITSA No. 332 with GTC to be effective 1/4/2023.

Filed Date: 2/3/23.

Accession Number: 20230203-5002.

Comment Date: 5 p.m. ET 2/24/23.

Docket Numbers: ER23-1042-000.

Applicants: Florida Power & Light Company.

Description: § 205(d) Rate Filing: FCA for Affected System Project Between FPL and DEF Q285 to be effective 1/18/2023.

Filed Date: 2/3/23.

Accession Number: 20230203-5003.

Comment Date: 5 p.m. ET 2/24/23.

Docket Numbers: ER23-1043-000.

Applicants: PJM Interconnection, L.L.C.

Description: § 205(d) Rate Filing: Amendment to ISA, SA No. 1442; Queue No. NQ-123 (amend) to be effective 1/19/2023.

Filed Date: 2/3/23.

Accession Number: 20230203-5017.

Comment Date: 5 p.m. ET 2/24/23.

Docket Numbers: ER23-1044-000.

Applicants: PJM Interconnection, L.L.C.

Description: § 205(d) Rate Filing: Original ISA, Service Agreement No. 6766; Queue No. AE2-241 to be effective 1/4/2023.

Filed Date: 2/3/23.

Accession Number: 20230203-5027.

Comment Date: 5 p.m. ET 2/24/23.

Docket Numbers: ER23-1045-000.

Applicants: Duke Energy Ohio, Inc., Duke Energy Kentucky, Inc., PJM Interconnection, L.L.C.

Description: § 205(d) Rate Filing: Duke Energy Ohio, Inc. submits tariff filing per 35.13(a)(2)(iii): DEOK submits revisions to OATT Att. H-22A Depreciation Rates to be effective 1/1/2023.

Filed Date: 2/3/23.

Accession Number: 20230203-5086.

Comment Date: 5 p.m. ET 2/24/23.

Docket Numbers: ER23-1046-000.

Applicants: Nittany Energy, LLC.

Description: Notice of Cancellation of Market Based Rate Tariff of Nittany Energy, LLC.

Filed Date: 2/2/23.

Accession Number: 20230202-5149.

Comment Date: 5 p.m. ET 2/23/23.

Take notice that the Commission received the following qualifying facility filings:

Docket Numbers: QF23-284-000.

Applicants: WED Coventry Five, LLC.

Description: Refund Report of WED Coventry Five, LLC.

Filed Date: 2/1/23.

Accession Number: 20230201-5265.

Comment Date: 5 p.m. ET 2/22/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 3, 2023.
Debbie-Anne A. Reese,
Deputy Secretary.

[FR Doc. 2023-02762 Filed 2-8-23; 8:45 am]

BILLING CODE 6717-01-P